DEPARTMENT OF HEALTH AND HUMAN SERVICES

Food and Drug Administration

[Docket No. FDA-2007-E-0335] (formerly Docket No. 2007E-0133) and [Docket No. FDA-2007-E-0227] (formerly Docket No. 2007E-0148)

Determination of Regulatory Review Period for Purposes of Patent Extension; TYZEKA; Correction

AGENCY: Food and Drug Administration, HHS.

ACTION: Notice; correction.

SUMMARY: The Food and Drug Administration (FDA) is correcting a notice that appeared in the Federal Register of May 15, 2008 (73 FR 28119), announcing FDA's determination of the regulatory review period for TYZEKA. The document published with an incorrect docket number. This document corrects that error.

FOR FURTHER INFORMATION CONTACT: Joyce Strong, Office of Policy, Planning and Preparedness (HF-27), Food and Drug Administration, 5600 Fishers Lane, Rockville, MD 20857, 301-827-7630.

SUPPLEMENTARY INFORMATION: In FR Doc. E8-10857, published on May 15, 2008 (73 FR 28119), the following correction is made:

On page 28119, in the third column, in the Docket No. heading, “Docket No. FDA-2007-E-0035” is corrected to read “Docket No. FDA-2007-E-0335”.

Dated: May 27, 2008.
Jeffrey Shuren,
Associate Commissioner for Policy and Planning.

[FR Doc. E8-12300 Filed 6-2-08; 8:45 am]

BILLING CODE 4160-01-S